DEPARTMENT OF STATE

[Delegation of Authority No. 446]

Delegation of Authorities in Section 101(A)(27)(D) of the Immigration and Nationality Act To Approve Recommendations That Special Immigrant Status Be Granted to Aliens in Exceptional Circumstances and To Find That Granting Such Status Is in the U.S. National Interest

By virtue of the authority vested in the Secretary of State, including by Section 1 of the Department of State Basic Authorities Act, as amended (22 U.S.C. 2651a), and by the Immigration and Nationality Act (INA), I hereby delegate to the Assistant Secretary of State for Consular Affairs:

(1) The authority set forth in section 101(a)(27)(D) of the Immigration and Nationality Act (8 U.S.C. 1101) to approve recommendations for the granting of special immigrant status to aliens who qualify under this section in exceptional circumstances and to find that it is in the national interest to grant such status; and

(2) The authority set forth in 22 CFR 42.32(d)(2)(v) to extend the validity of such approval of special immigrant status or of a petition issued on the basis of such status for not more than one additional year.

Any act, executive order, regulation, or procedure subject to, or affected by, this delegation shall be deemed to be such act, executive order, regulation, or procedure as amended from time to time. The authorities covered by this delegation of authority may be re-delegated, to the extent authorized by law.

Notwithstanding this delegation of authority, the Secretary, the Deputy Secretary, and the Under Secretary for Management may at any time exercise any authority or function delegated herein.

This delegation of authority does not supersede or amend Delegation of Authority 367 or any other delegation of authority currently in effect.

This delegation of authority shall be published in the Federal Register.

Dated: May 16, 2018.
Mike Pompeo,
Secretary of State.

[FR Doc. 2018-11740 Filed 5-30-18; 8:45 am]

BILLING CODE 4710-05-P